FEDERAL COMMUNICATIONS COMMISSION

Notice of Public Information Collection(s) Being Reviewed by the Federal Communications Commission, Comments Requested

April 11, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested cncerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 19, 2000. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION:

OMB Control Number: 3060-0868.

Title: Construction of Grand-Fathered Multilateration Location Monitoring Service (LMS) Sites.

Form Number: N/A.

Type of Review: Extension.

Respondents: Business or other for-profit.

Number of Respondents: 10.

Estimated Time Per Response: 10 hours.

Frequency of Response: On occasion.

Total Annual Burden: 10 hours.

Total Annual Cost: 1,075.

Needs and Uses: This collection will allow the Commission to determine which LMS licensees are operating in compliance with our rules. Prior to the December 15, 1998, multilateration LMS auction, the Commission must determine the current status of certain grand-fathered licenses. For due diligence and valuation purposes, the Commission needs to know whether these licensees have constructed and put their facilities into operation as required by our rules.

OMB Control Number: 3060-0441.

Title: 90.621(b)(4) Selection and assignment of frequency.

Form Number: N/A.

Type of Review: Extension

Respondents: Business or other for-profit, Not-for-profit institutions, and State, Local or Tribal Government.

Number of Respondents: 33.

Estimated Time Per Response: 1.5 hours.

Frequency of Response: On occasion.

Total Annual Burden: 25.

Total Annual Cost: 9,234.

Needs and Uses: Rule requires SMR applicants who wish to locate stations closer than required mileage separation from existing co-channel station to file additional information and in some instances, a waiver.

OMB Control Number: 3060-0461

Title: 90.173 Policies governing the assignment of frequencies.

Form Number: N/A.

Type of Review: Extension.

Respondents: Business or other for-profit and State, Local or Tribal Government

Number of Respondents: 200.

Estimated Time Per Response: 4.5 hours.

Frequency of Response: On occasion.

Total Annual Burden: 900 hours.

Total Annual Cost: N/A.

Needs and Uses: Information needed to determine that licensee is in violation of rules so identifier can be given licensing preference for channels recovered.

OMB Control Number: 3060-0691.

Title: Amendment of Parts 2 and 90 of the Commission's Rules to Provide for the Use of 200 Channels Outside of the Designated Filing Areas in the 896-901 MHz Bands Allotted to the Specialized Mobile Radio Pool, 2nd Order on Reconsideration & 7th Report and Order for the 900 MHz Specialized Mobile Radio Service.

Form Number: N/A.

Type of Review: Extension.

Respondents: Business or other for-profit (P), and Individuals or households.

Number of Respondents: 1,020.

Estimated Time Per Response: 7 hours.

Frequency of Response: On occasion.

Total Annual Burden: 1,139.

Total Annual Cost: 284,251.

Needs and Uses: This collection will be used to ensure that applicants comply with Commission Rules. Respondents will be individuals or entities who will be acquiring licenses for use of spectrum in wireless communications.

OMB Control Number: 3060-0865.

Title: Wireless Telecommunications Bureau Universal Licensing System Record-keeping and Third Party Disclosure Requirements.

Form Number: N/A.

Type of Review: Extension.

Respondents: Business or other for-profit (P), Individuals or households, Not-for-profit institutions, and State, Local or Tribal Government.

Number of Respondents: 62,790.

Estimated Time Per Response: 393 hours.

Frequency of Response: On occasion.

Total Annual Burden: 77,164.

Total Annual Cost: N/A.

Needs and Uses: ULS establishes streamlined set of rules that minimize filing requirements, eliminates redundant, or unnecessary submission requirements; and assures ongoing collection of reliable licensing and ownership data. The record keeping and third party disclosure requirements contained in this collection are a result of the elimination of a number of filing requirements. The ULS forms contain a number of certifications, however, applicants must maintain records to document compliance with the requirements for which they provide certifications. In some instances third party co-ordinations are required.

OMB Control Number: 3060-0280.

Title: 90.633(f) & (g) Conventional systems loading requirements (wide area systems).

Form Number: N/A.

Type of Review: Extension.

Respondents: Business or other for-profit (P), Not-for-profit institutions, and State, Local or Tribal Government.

Number of Respondents: 15.

Estimated Time Per Response: 1 hour.

Frequency of Response: On occasion.

Total Annual Burden: 10.

Total Annual Cost: 2,964.

Needs and Uses: Rule provides for the authorization of wide area or ribbon systems upon an appropriate showing of need. The information is used to determine if such systems should be authorized.

OMB Control Number: 3060-0702.

Title: Amendment of Part 20 and 24 of the Commission's Rules—Broadband PCS Competitive Bidding and the Commercial Mobile Radio Service Spectrum Cap, Amendment of the Commission's Cellular PCS Cross-Ownership Rule, Notice of Proposed Rule Making.

Form Number: FCC Forms 175 and 600.

Type of Review: Extension of a currently approved collection.

Respondents: Business or other for-profit, individuals or households, not-for-profit institutions, and state, local or tribal government.

Number of Respondents: 6,000.

Estimated Time Per Response: 13 hours.

Frequency of Response: On occasion reporting requirement.

Total Annual Burden: 77,817.

Total Annual Cost: 17,087,948.00.

Needs and Uses: Applicants are required to file certain information so that the Commission can determine whether the applicants are legally, technically, and financially qualified to be licensed and to determine whether applicants claiming designated entity status are entitled to certain benefits. Affected parties include any member of the public who wishes to become a broadband PCS licensee.

OMB Control Number: 3060-0697.

Title: Revision of part 22 and part 90 of the Commission's Rules to Facilitate Future Development of Paging Systems (Second Report and Order and Further Notice of Proposed Rulemaking Memorandum Opinion and Order on Reconsideration and Third Report and Order.

Form Number: N/A.

Type of Review: Extension of a currently approved collection.

Respondents: Business or other for-profit, individuals or households, not-for-profit institutions, state, local, or tribal government.

Number of Respondents: 600.

Estimated Time Per Response: 1 hour.

Frequency of Response: On occasion reporting requirement and recordkeeping requirement.

Total Annual Burden: 600 hours.

Total Annual Cost: N/A.

Needs and Uses: The information will be used by the Commission to facilitate the successful coexistence of incumbent and geographic area paging licensees; to lessen the administrative burden on licensees and to simplify the paging licensing database; to determine the partitioned service areas and the geographic area licensee's remaining service area of parties to a partitioning agreement; to determine whether a geographic area licensee and parties to partitioning and disaggregation agreements have met the applicable coverage requirements for their respective service areas; to determine whether an applicant is eligible to receive bidding credits as a small business; to determine the real parties in interest of any joint bidding agreements; and to determine the appropriate unjust enrichment compensation to be remitted to the government.

OMB Control Number: 3060-0066.

Title: Application for Renewal of Instructional Television Fixed Station and/or Response Station(s) and Low Power Relay Station(s) License.

Form Number: FCC 330-R.

Type of Review: Extension of currently approved collection.

Respondents: Not for-profit institutions, state, local or tribal government.

Number of Respondents: 75.

Estimated Time per Response: 3 hours.

Total Annual Burden: 225 hours.

Total Annual Costs: $0.

Needs and Uses: FCC 330-R is used by licensees of Instructional Television Fixed (ITFS), Response, and Low Power Relay Stations to file for renewal of their licenses. The data are used by FCC staff to ensure that ITFS licensees continue to meet basic Commission policies and rules, as well as statutory requirements to remain a licensee.

Federal Communications Commission.
Magalie Roman Salas,
Secretary.

[FR Doc. 00-9705 Filed 4-18-00; 8:45 am]

BILLING CODE 6712-01-U